DEPARTMENT OF HOUSING AND URBAN DEVELOPMENT

[Docket No. FR-7077-C-03]

Privacy Act of 1974; System of Records

AGENCY: Office of Policy Development and Research, HUD.

ACTION: Notice of a modified system of records.

SUMMARY: In accordance with the Privacy Act of 1974, as amended, the Department of Housing and Urban Development (HUD), Office of Policy Development and Research (PD&R), gives notice of a proposed revision of an existing Privacy Act system of records. The system of records is being updated in support of a follow-up information collection with the participants of the Homeless Families Impact Study (now called the Family Options Study). The overall goal of the Family Options Study is to determine which housing and service intervention works best to promote housing stability, family preservation, and family well-being, and self-sufficiency for homeless families with children. The new information collected will be added to the existing Homeless Families Impact Study Data Files. The Department proposes to expand the data collected under the previous study to capture additional data to determine the effects that housing and service interventions have had on the young children who are part of the sample. Refer to the “Categories of Records” section to identify new record types. Additionally, this Notice updates the routine uses of the data collected. This notice supersedes the previously published notice (February 26, 2014; FR-5763-N-02).

DATES: Comments will be accepted on or before January 16, 2024. This proposed action will be effective immediately upon publication. Routine uses will become effective on the date following the end of the comment period unless comments are received which result in a contrary determination.

ADDRESSES: You may submit comments, identified by docket number by one of these methods:

Federal e-Rulemaking Portal: http://www.regulations.gov. Follow the instructions provided on that site to submit comments electronically.

Fax: 202-619-8365.

Email: privacy@hud.gov.

Mail: Attention: Privacy Office; LaDonne White, Chief Privacy Officer; The Executive Secretariat; 451 Seventh Street SW, Room 10139 Washington, DC 20410-0001.

Instructions: All submissions received must include the agency name and docket number for this rulemaking. All comments received will be posted without change to http://www.regulations.gov. including any personal information provided.

Docket: For access to the docket to read background documents or comments received go to http://www.regulations.gov.

FOR FURTHER INFORMATION CONTACT: LaDonne White; 451 Seventh Street SW, Room 10139 Washington, DC 20410-0001; telephone number 202-708-3054 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: HUD launched the Family Options Study in 2008 with the intent of generating evidence about the relative effectiveness of various housing and services interventions designed to address family homelessness. HUD awarded the contract for the Family Options Study to Abt Associates and their partner, Vanderbilt University, who have conducted prior phases of the study and will conduct this next phase of the evaluation. Specific changes to the SORN include:

a. Changes to categories of records in the system and sources categories. The upcoming follow-up information collection with the participants of the Family Options Study will include additional categories of records which will be stored as part of the Homeless Families Impact Study Data Files.

b. Updated routine uses. The routine uses have been updated to remove those which are no longer relevant to this data collection (including the Congressional Inquiries Routine Use, the Department of Justice for Litigation Disclosure Routine Use, the Court or Law Enforcement Proceeding Routine Use, and the Law Enforcement Investigation Routine Use) and to add a new Research and Statistical Analysis Disclosure Routine Use.

c. Updated the System Location to reflect current addresses of contractors. The contractor has moved offices since the publication of the original SORN in 2014, and thus the System Location has been updated to reflect the current address.

d. Updated the Purpose to reflect the additional phase of the study. The original SORN was published in 2014 and did not forecast this new follow up information collection, thus the SORN is being revised to refer to this additional phase of the study.

e. Updated record retention and disposal and safeguards sections to reflect current retention requirements and current safeguard procedures. This section has been updated to reflect current record retention requirements and current safeguard procedures.

SYSTEM NAME AND NUMBER:

Family Options Study HUD/PD&R-04.

SECURITY CLASSIFICATION:

Unclassified.

SYSTEM LOCATION:

Data Files are maintained by Abt Associates which has principal offices at the following locations: Abt Associates Inc., 10 Fawcett Street, Suite 5, Cambridge, MA; Abt Associates Inc., 6130 Executive Blvd., Rockville, MD 20852; and the U.S. Department of Housing and Urban Development, 451 7th Street SW, Washington, DC 20410-0001. The Abt Associates system is hosted inside Amazon Web Services US East Cloud Region.

SYSTEM MANAGER(S):

Carol Star, Director, Division of Program Evaluation, Department of Housing and Urban Development, Office of Policy Development and Research, 451 Seventh Street SW, Room 8120, Washington, DC 20410-0001. Phone: (202) 402-6139.

AUTHORITY FOR MAINTENANCE OF THE SYSTEM:

Sections 501 and 502 of the Housing and Urban Development Act of 1970 (Pub. L. 91-609) (12 U.S.C. 1701z-1; 1701z-2(d) and (g)).

PURPOSE(S) OF THE SYSTEM:

The purpose of the Family Options Study will be to store the information that is needed to measure the long-term outcomes of the Family Options Study. The information to be maintained in this records system is necessary to identify and track the participating families over the course of the study and determine the effectiveness of the interventions. The data in this system will be analyzed using statistical methods and any results shared with the public or published in anyway will be reported only in the aggregate. Resulting reports will not disclose or identify any individuals or sensitive personal information.

CATEGORIES OF INDIVIDUALS COVERED BY THE SYSTEM:

Families enrolled in Family Options Study and children in these families who have aged into adulthood and enrolled in the study.

CATEGORIES OF RECORDS IN THE SYSTEM:

The data sets will contain the following categories of records.

Responses to surveys: Includes participant's full name; social security number; study identifier; birth date; contact information (home address, telephone numbers, email address); demographic characteristics of the family head and children; income and employment history; health information; housing history; program service participation and experiences; and child well-being.

Administrative data: Includes data on tenant's full name, date of birth, age, gender, race/ethnicity, disability status, income/salary, geolocation information, home address, unique household identifier; employment status, earned income, name of employer, email address, phone number.

Locational data: Includes data such as the address and location of participating household.

RECORD SOURCE CATEGORIES:

Families enrolled in the Family Options Study, HUD's PIH Inventory Management System/PIH Information Center (IMS/PIC), National Director of New Hires (NDNH), National Student Clearinghouse, Research Data Assistance Center, National Center for Health Statistics, National Change of Address (NCOA), and Accurint.

ROUTINE USES OF RECORDS MAINTAINED IN THE SYSTEM, INCLUDING CATEGORIES OF USERS AND PURPOSES OF SUCH USES:

(1) To contractors, grantees, experts, consultants, Federal agencies, and non-Federal entities, including, but not limited to, State and local governments and other research institutions or their parties, and entities and their agents with whom HUD has a contract, service agreement, grant, cooperative agreement, or other agreement for the purposes of statistical analysis and research in support of program operations, management, performance monitoring, evaluation, risk management, and policy development, or to otherwise support the Department's mission. Records under this routine use may not be used in whole or in part to make decisions that affect the rights, benefits, or privileges of specific individuals. The results of the matched information may not be disclosed in identifiable form.

(2) To contractors, grantees, experts, consultants and their agents, or others performing or working under a contract, service, grant, cooperative agreement, or other agreement with HUD, or its contractor Abt Associates, when necessary to accomplish an agency function related to a system of records. Disclosure requirements are limited to only those data elements considered relevant to accomplishing an agency function.

(3) (a) To appropriate agencies, entities, and persons when: (1) HUD suspects or has confirmed there has breached the system of records; (2) HUD has determined that as a result of the suspected or confirmed breach there is a risk of harm to individuals, HUD (including its information systems, programs, and operations), the Federal Government, or national security; and (3) The disclosure made to such agencies, entities, and persons is reasonably necessary to assist with HUD's efforts to respond to the suspected or confirmed breach or to prevent, minimize, or remedy such harm.

(4) To another Federal agency or Federal entity, when HUD determines that information from this system of records is reasonably necessary to assist the recipient agency or entity in (1) responding to suspected or confirmed breach, or (2) preventing, minimizing, or remedying the risk of harm to individuals, the recipient agency or entity (including its information systems, programs, and operations), the Federal Government, or national security, resulting from a suspected or confirmed breach.

(5) To contractors, grantees, experts, consultants, Federal agencies, and non-Federal entities, including, but not limited to, State and local governments and other research institutions or employees or contractors, and other entities and their agents for the conduct of HUD-approved ancillary studies relevant to the Family Options Study. Records under this routine use may not be used in whole or in part to make decisions that affect the rights, benefits, or privileges of specific individuals. Research reports resulting from any such ancillary studies would be required to report all results in the aggregate and to ensure that no individual was identifiable.

POLICIES AND PRACTICES FOR STORAGE OF RECORDS:

Electronic and paper.

POLICIES AND PRACTICES FOR RETRIEVAL OF RECORDS:

Name, Social Security Number, Date of Birth and Unique Study ID.

POLICIES AND PRACTICIES FOR RETENTION AND DISPOSAL OF RECORDS:

Temporary. Destroy upon verification of successful creation of the final document or file, or when no longer needed for business use, whichever is later.

ADMINISTRATIVE, TECHNICAL, AND PHYSICAL SAFEGUARDS:

For Electronic Records: All personal data will be maintained on a secure virtual server that is protected by a firewall and complex passwords in a directory that can only be accessed by the system administrators and the analysts actively working on the data; access rights to the data are granted to limited researchers on a need-to-know basis, and the level of access provided to each researcher is based on the minimal level required that individual to fulfill his research role; all systems used to process or store data have Federal security controls applied to them; the data will be backed up on a regular basis to safeguard against system failures or disasters; and, unencrypted data will not be stored on a laptop or on removable media such as CDs, diskettes, or USB flash drives.

For Paper Records: Any paper records with personal identifiers will be securely stored until they are shipped to the evaluation contractor via commercial mail services; all hard copy forms with personal identifying data (informed consent forms) will be stored securely in a locked cabinet that can only be accessed by authorized individuals working on the data. The locked cabinet will be stored in a locked office in a limited-access building. Additionally, permissions will be defined for each authorized user based on the user's role on the project. Study data will be aggregated or de-identified at the highest level possible for each required, authorized use.

RECORD ACCESS PROCEDURES:

Individuals requesting records of themselves should address written inquiries to the Department of Housing Urban and Development, 451 7th Street , SW, Washington, DC 20410-0001. For verification, individuals should provide their full name, current address, and telephone number. In addition, the requester must provide either a notarized statement or an unsworn declaration made under 24 CFR 16.4.

CONTESTING RECORD PROCEDURES:

The HUD rule for contesting the content of any record pertaining to the individual by the individual concerned is published in 24 CFR 16.8 or may be obtained from the system manager.

NOTIFICATION PROCEDURES:

Individuals requesting notification of records of themselves should address written inquiries to the Department of Housing Urban Development, 451 7th street SW, Washington, DC 20410-0001. For verification purposes, individuals should provide their full name, office or organization where assigned, if applicable, and current address and telephone number. In addition, the requester must provide either a notarized statement or an unsworn declaration made under 24 CFR 16.4.

EXEMPTIONS PROMULGATED FOR THE SYSTEM:

None.

HISTORY:

This is a revision to the previously published notice published in the Federal Register on February 26, 2014, at 79 FR 10823.

LaDonne White,
Chief Privacy Officer, Office of Administration.

[FR Doc. 2023-27445 Filed 12-13-23; 8:45 am]

BILLING CODE 4210-67-P